DEPARTMENT OF TRANSPORTATION

Federal Aviation Administration

[Summary Notice No. 2017-61]

Petition for Exemption; Summary of Petition Received; Mr. Edward Silva

AGENCY: Federal Aviation Administration (FAA), DOT.

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before August 8, 2017.

ADDRESSES: Send comments identified by docket number FAA-2015-0226 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Alphonso Pendergrass (202) 267-4713, Office of Rulemaking, Federal Aviation Administration, 800 Independence Avenue SW., Washington, DC 20591.

This notice is published pursuant to 14 CFR 11.85.

Issued in Washington, DC, on July 12, 2017.
Dale Bouffiou,
Deputy Director, Office of Rulemaking.

Petition for Exemption

Docket No.: FAA-2015-0226.

Petitioner: Mr. Edward Silva.

Section(s) of 14 CFR Affected: §§ 61.39, 61.153 and 61.156.

Description of Relief Sought: Mr. Edward John Silva is a Captain in the U.S. Air Force flying the Boeing C-17 Globemaster III. Captain Silva holds a FAA commercial pilot certificate in the airplane category with single-engine and multiengine class ratings and an instrument rating and would like to obtain an airline transport pilot (ATP) certificate with an airplane category and multiengine class rating. After July 31, 2014, all applicants for the ATP certificate with an airplane category and multiengine class rating are required to complete the training identified in § 61.156 from an FAA-approved provider prior to completing the FAA knowledge and practical tests for this certificate. Prior to August 1, 2014, the training requirement did not exist, therefore a pilot only needed to complete the knowledge test prior to taking the practical test. The previous ATP knowledge test results were good for 24 calendar months; therefore, had Captain Silva taken the ATP knowledge test prior to August 1, 2014, he could have used those results to demonstrate eligibility for the ATP practical test for the duration of the validity period. Captain Silva stated he intended to complete the ATP knowledge test prior to August 1, 2014, but was placed on a short notice deployment and he was unable to complete it while overseas. Captain Silva seeks relief from the requirement to complete the airline transport pilot certification training program required by §§ 61.39, 61.153, and 61.156 prior to taking the practical test based on his military experience and deployment.

[FR Doc. 2017-15074 Filed 7-18-17; 8:45 am]

BILLING CODE 4910-13-P